DEPARTMENT OF COMMERCE

Foreign-Trade Zones Board

[S-29-2019]

Foreign-Trade Zone 279—Terrebonne Parish, Louisiana; Application for Expansion of Subzone 279A; Thoma-Sea Marine Constructors, L.L.C., Houma and Lockport, Louisiana

An application has been submitted to the Foreign-Trade Zones Board (the Board) by the Houma-Terrebonne Airport Commission, grantee of FTZ 279, requesting an expansion of Subzone 279A on behalf of Thoma-Sea Marine Constructors, L.L.C. The application was submitted pursuant to the provisions of the Foreign-Trade Zones Act, as amended (19 U.S.C. 81a-81u), and the regulations of the Board (15 CFR part 400). It was formally docketed on February 27, 2019.

Subzone 279A was approved on May 25, 2016 (S-8-2016, 81 FR 35298, June 2, 2016) and currently consists of the following sites: Site 1 (14.44 acres)—137 Barry Belanger Street (1874 Industrial Boulevard), Houma; Site 2 (63.758 acres)—6130 Louisiana Highway 308, Lockport; Site 3 (21.8 acres)—429 Rome Woodard Street (429 Main Port Court), Houma; and, Site 4 (18.377 acres)—139 Joe Brown Road, Lockport. A notification of production activity was authorized on June 2, 2016 (B-5-2016, 81 FR 37570, June 10, 2016).

The applicant is requesting authority to expand Subzone 279A to include an additional site: Proposed Site 5 (12.9 acres)—202 Industrial Boulevard, Houma. The expanded subzone would be subject to the existing activation limit of FTZ 279. No additional authorization for production activity has been requested at this time.

In accordance with the Board's regulations, Camille Evans of the FTZ Staff is designated examiner to review the application and make recommendations to the Executive Secretary.

Public comment is invited from interested parties. Submissions shall be addressed to the Board's Executive Secretary at the address below. The closing period for their receipt is April 15, 2019. Rebuttal comments in response to material submitted during the foregoing period may be submitted during the subsequent 15-day period to April 29, 2019.

A copy of the application will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Camille Evans at Camille.Evans@trade.gov or (202) 482-2350.

Dated: February 27, 2019.
Andrew McGilvray,
Executive Secretary.

[FR Doc. 2019-03925 Filed 3-4-19; 8:45 am]

BILLING CODE 3510-DS-P